ENVIRONMENTAL PROTECTION AGENCY

40 CFR Part 300

[EPA-HQ-SFUND-1991-0006; FRL-9925-83-Region 8]

National Oil and Hazardous Substances Pollution Contingency Plan National Priorities List: Deletion of the Midvale Slag Superfund Site

AGENCY: Environmental Protection Agency.

ACTION: Final rule.

SUMMARY: The U.S. Environmental Protection Agency (EPA) Region 8 announces the deletion of the Midvale Slag Superfund Site (Site), located in Salt Lake County, Utah, from the National Priorities List (NPL). The NPL, promulgated pursuant to section 105 of the Comprehensive Environmental Response, Compensation, and Liability Act (CERCLA) of 1980, as amended, is an appendix of the National Oil and Hazardous Substances Pollution Contingency Plan (NCP). The EPA and the State of Utah, through the Utah Department of Environmental Quality (UDEQ), have determined that all appropriate response actions under CERCLA, other than operation, maintenance and five-year reviews of the Site, have been completed. However, this deletion does not preclude future actions under Superfund.

DATES: This action is effective April 8, 2015.

ADDRESSES: Docket: EPA has established a docket for this action under Docket ID No. EPA-HQ-SFUND-1991-0006. All documents in the docket are listed on the http://www.regulations.gov Web site. Although listed in the index, some information is not publicly available, i.e., Confidential Business Information or other information whose disclosure is restricted by statute. Certain other material, such as copyrighted material, will be publicly available only in hard copy. Publicly available docket materials are available electronically at http://www.regulations.gov or in hard copy at Ruth Tyler Branch Library, 8041 South Wood, Midvale, UT 84047; Phone: (801-944-7641); Hours: M-Th: 9 a.m.-9 p.m.; Fri-Sat: 9:00 a.m.-5:30 p.m.

FOR FURTHER INFORMATION CONTACT: Erna Waterman, Remedial Project Manager, U.S. EPA Region 8, Mail code: 8EPR-SR, 1595 Wynkoop Street, Denver, CO 80202-1129; Phone: (303) 312-6762; Email: waterman.erna@epa.gov. You may contact Erna to request a hard copy of publicly available docket materials.

SUPPLEMENTARY INFORMATION: The site to be deleted from the NPL is: Midvale Slag Superfund Site (Site), located in Salt Lake County, Utah. A Notice of Intent to Delete for this Site was published in the Federal Register (80 FR 6496) on February 5, 2015.

The closing date for comments on the Notice of Intent to Delete was March 9, 2015. One public comment was received. The comment requested that the Site not be deleted over concerns that water quality in the Jordan River would not be protected from the potential release of hazardous substances from the Kennecott North and Kennecott South Sites. The EPA believes the deletion action is appropriate as the remediation goals for this Site have been met and the water monitoring data shows that the Jordan River is not being adversely affected by this Site. A responsiveness summary was prepared and placed in both the docket, EPA-HQ-SFUND EPA-HQ-SFUND-1991-0006, on www.regulations.gov, and in the local repository listed above.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: March 26, 2015.
Shaun L. McGrath,
Regional Administrator, Region 8.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 13626, 77 FR 56749, 3 CFR 2013 Comp., p. 306; E.O. 12777, 56 FR 54757; 3 CFR, 1991 Comp., p. 351; E.O. 12580. 52 FR 2923, 3 CFR 1987 Comp., p. 193.

Appendix B to Part 300—[Amended]

2. Table 1 of Appendix B to part 300 is amended by removing the entry “UT Midvale Slag, Midvale.”

[FR Doc. 2015-07950 Filed 4-7-15; 8:45 am]

BILLING CODE 6560-50-P